COMMITTEE FOR PURCHASE FROM PEOPLE WHO ARE BLIND OR SEVERELY DISABLED

Procurement List; Addition

AGENCY: Committee for Purchase From People Who Are Blind or Severely Disabled.

ACTION: Addition to the Procurement List.

SUMMARY: This action adds a service to the Procurement List that will be provided by a nonprofit agency employing persons who are blind or have other severe disabilities.

DATES: Effective Date: 1/23/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Addition

On 10/1/2010 (75 FR 60739-60740), the Committee for Purchase From People Who Are Blind or Severely Disabled published a notice of proposed addition to the Procurement List of Food Service Attendant, Pease Air National Guard Base, Newington, NH.

Comments on the proposed addition were received from representatives of the Blind Entrepreneurs Alliance (BEA), Randolph Sheppard Vendors of America (RSVA) and the National Association of Blind Merchants (NABM).

The Committee disputes any suggestion that all Department of Defense (DoD) contracts for mess hall services must be competitively bid and are subject to the Randolph-Sheppard Act. In this project, the DoD contracting activity specifically identified their requirement as “food attendant services.” Therefore, the initial Federal Register Notice published by the Committee identifies the service as “Food Service Attendant” that includes “food preparation, service of food, cashiering and housekeeping services and waste management.” The Committee also confirmed with the contracting activity that the dining facility is under military management and operation which, in addition to the clearly defined Statement of Work, specifically limits the requirement of this project to food service attendant duties.

The Randolph-Sheppard Act provides entrepreneurial opportunities for blind vendors in operating and managing military dining facilities, whereas food service attendant opportunities supporting the operation of a military dining facility short of management responsibilities are considered to be suitable for addition to the Procurement List maintained by the Committee. Accordingly, the Committee determines that the information provided in the Federal Register Notice is sufficiently clear to identify the services sought and, furthermore, that this service is appropriate for the AbilityOne Program.

After consideration of the material presented to it concerning capability of a qualified nonprofit agency to provide the service and impact of the addition on the current or most recent contractors, the Committee has determined that the service listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing small entities to provide the service to the Government.

3. There are no known regulatory alternatives which would accomplish the objectives of the Javits-Wagner-O'Day Act (41 U.S.C. 46-48c) in connection with the service proposed for addition to the Procurement List.

End of Certification

Accordingly, the following service is added to the Procurement List:

Service

Service Type/Location: Food Service Attendant, Pease Air National Guard Base, Newington, NH.

NPA: CW Resources, Inc., New Britain, CT.

Contracting Activity: Dept. of the Army, XRAW7NN USPFO Activity NH ARNG, Concord, NH.

Barry S. Lineback,
Director, Business Operations.

[FR Doc. 2010-32330 Filed 12-23-10; 8:45 am]

BILLING CODE 6353-01-P